DEPARTMENT OF HOUSING AND URBAN DEVELOPMENT

[Docket No. FR-5382-N-02]

Notice of Proposed Information Collection for Public Comment: Section 108 Program Assessment

AGENCY: Office of Policy Development and Research, HUD.

ACTION: Notice.

SUMMARY: The proposed information collection requirement described below will be submitted to the Office of Management and Budget (OMB) for review, as required by the Paperwork Reduction Act. The Department is soliciting public comments on the subject proposal.

DATES: Comment Due Date: April 26, 2010.

ADDRESSES: Interested persons are invited to submit comments regarding this proposal. Comments should refer to the proposal by name and should be sent to: Reports Liaison Officer, Office of Policy Development and Research, Department of Housing and Urban Development, 451 7th Street, SW., Room 8226, Washington, DC 20410.

FOR FURTHER INFORMATION CONTACT: Judson L. James, Department of Housing and Urban Development, 457 7th Street, SW., Washington, DC 20410; telephone (202) 402-5707 (this is not a toll-free number). Copies of the proposed data collection and other available documents may be obtained from Mr. James.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, such as permitting electronic submission of responses.

Title of Proposal: Section 108 Program Assessment.

Description of the need for the information and proposed use: The U.S. Department of Housing and Urban Development's (HUD) Section 108 program is the loan guarantee provision of the Community Development Block Grant (CDBG) program. It provides an upfront source of community and economic development financing, allowing an entitlement grantee to borrow up to five times its annual approved CDBG entitlement amount. Grantees address housing, community development, and economic development needs of low- and moderate-income persons and communities. The Section 108 loan guarantee program facilitates the financing of physical and economic revitalization projects—such as neighborhood commercial centers, small business incubators, industrial park rehabilitation, affordable housing activities, or office center construction—that have the potential for renewing neighborhoods or providing affordable housing to low- and moderate-income persons. HUD acts as the guarantor of a Section 108 loan made from private-market funds, promising investors that the loan will be repaid.

The survey is an essential part of a comprehensive evaluation of the Section 108 program, addressed to questions and concerns raised in a recent PART review of the Section 108 program by OMB. In addition to documenting the types of projects funded through Section 108 loans in recent years (FY 2002-FY 2007), the study will develop data from administrative loan files, selected site visits, and a survey of local administrators of all Section 108 loans for the FY 2002-FY 2007 period. The survey will confirm and extend the initial project descriptions found in the administrative files to permit more extensive analysis of the characteristics and progress of the activities funded by these loans. This study will increase understanding of the role of the Section 108 program in the community and economic development strategies of local governments, seek to identify the consequences of Section 108 projects, and identify ways to improve the measurement of the performance of Section 108 loans.

Members of affected public: Local administrators of Section 108 loans made in FY 2002 to FY 2007, involving a total of approximately 320 loans.

Estimation of the total number of hours needed to prepare the information collection, including the number of respondents, frequency of response, and hours of response: The researchers will survey the universe of local administrators of the roughly 320 Section 108 loans approved between FY 2002 and FY 2007. The surveys are expected to last 90 minutes. This constitutes a total burden hour estimate of 480 burden hours.

Status of the proposed information collection: Pending OMB approval.

Authority: Section 3506 of the Paperwork Reduction Act of 1995, 44 U.S.C. Chapter 35, as amended.

Dated: January 28, 2010.
Raphael W. Bostic,
Assistant Secretary for Policy Development and Research.

[FR Doc. 2010-3751 Filed 2-24-10; 8:45 am]

BILLING CODE 4210-67-P